DEPARTMENT OF THE INTERIOR

Fish and Wildlife Service

[FWS-HQ-FAC-2023-N065; FXFR13360900000-FF09F14000-234]

Draft Revised National European Green Crab Management and Control Plan

AGENCY: Fish and Wildlife Service, Interior.

ACTION: Notice of availability; request for comments.

SUMMARY: The U.S. Fish and Wildlife Service announces the availability of the draft revised National European Green Crab Management and Control Plan (2023 EGC plan). The Aquatic Nuisance Species Task Force recently approved the 2023 EGC plan to be posted in the Federal Register for public comment. We invite comment from the public and local, State, Tribal, Federal agencies, and other relevant parties.

DATES: Written comments should be received on or before February 9, 2024.

ADDRESSES: Obtaining Documents: An electronic copy of the draft revised 2023 EGC plan is available at https://www.fws.gov/media/management-plan-european-green-crab.

Submitting Written Comments: Please send written comments using one of the following methods:

• Email (preferred method): anstaskforce@fws.gov. Please include your name and return mailing address in your email message.

• U.S. Mail: U.S. Fish and Wildlife Service Headquarters Office, Aquatic Nuisance Species Task Force; 5275 Leesburg Pike; Falls Church, VA 22041-3803 (Attn: Susan Pasko, Executive Secretary).

FOR FURTHER INFORMATION CONTACT: Susan Pasko, Executive Secretary, Aquatic Nuisance Species Task Force, by email at susan_pasko@fws.gov or via phone at (703) 358-2466. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The ANSTF is an intergovernmental organization dedicated to preventing and controlling aquatic nuisance species (ANS) and coordinating governmental efforts of the United States with the private sector and other North American interests. The ANSTF was established by Congress with the passage of the Nonindigenous Aquatic Nuisance Prevention and Control Act of 1990 (NANPCA; Pub. L. 101-646, 104 Stat. 4761, 16 U.S.C. 4701-4741), and reauthorized with the passage of the National Invasive Species Act of 1996 (NISA; Pub. L. 104-332, 110 Stat. 4073). Section 1201(d) of NANPCA designates the Undersecretary of Commerce for Oceans and Atmosphere and the Director of the U.S. Fish and Wildlife Service as the ANSTF co-chairpersons. The ANSTF is regulated by the Federal Advisory Committee Act of 1972 (5 U.S.C. Ch. 10), which provides the ANSTF with its core structure and ensures an open and public forum for its activities. Membership of the ANSTF consists of 13 Federal agency representatives and 13 representatives from ex-officio member organizations who work in conjunction with six regional panels and issue-specific subcommittees to meet the challenges of developing and implementing a coordinated and complementary Federal program for ANS activities.

The NANPCA (as amended by NISA, 1996) establishes that the ANSTF is responsible for coordination of national efforts to prevent the introduction and spread of ANS. These responsibilities include the development of species management and control plans for specific high-risk invasive species. These plans focus on tasks that are essential to prevent spread into additional habitats and minimize the impact to areas where the species have already invaded. The plans are developed through a cooperative process and undergo review by the ANSTF members and regional panels. Successful implementation of these plans requires the participation of States, regional and Tribal entities, Federal agencies, and other relevant parties.

History of the National European Green Crab Management and Control Plan

European green crab (EGC; Carcinus maenas) is one of the most pervasive invasive predators in coastal marine systems, having established populations on five continents. The ecological and economic damage caused by EGC is well documented on both coasts of North America. On the U.S. Atlantic coast, EGC has been an established invader for at least 200 years, although its geographic range continues to expand into Atlantic Canada. On the Pacific coast, EGC arrived in the late 1980s and, consequently, is still at an earlier stage of range expansion and population growth. EGC has been implicated in historic declines and current losses of commercial bivalves in the eastern United States and maritime Canada and is also thought to have impacts to habitats of native species, including eelgrass beds, along both coasts of North America. Recognizing the taxon's potential for negative cultural, ecological, and economic impacts and its expanding geographic range, the ANSTF first designated EGC as an ANS in 1998. Following this designation, a EGC control committee was appointed by the ANSTF and subsequently worked, through several years of planning and research, to develop the first National Management Plan for European Green Crab (2002 EGC plan), which was approved by the ANSTF in 2002. For 20 years, the plan guided natural resource managers on EGC management and served as a reference for regional plans. In June 2021, the ANSTF Control Subcommittee recommended that the 2002 EGC plan be updated to reflect the current knowledge, range, and control options of the species. In 2022, a working group was established to revise and update the 2002 EGC plan. Input on development of the updated plan was sought through multiple forums, including email submissions, in-person meetings (local, regional, and national), regional listening sessions, and informal public comment periods. Comments received were addressed and, where appropriate, incorporated into the new draft revised 2023 EGC plan.

The draft 2023 EGC plan was submitted to the ANSTF on July 19, 2023, and was approved to be posted in the Federal Register for public comment. Distribution of the 2023 EGC plan for public comment, and the consideration of comments received, are the final steps before the ANSTF can consider the plan for final approval (NANPCA; Pub. L. 101-646, 104 Stat. 4761, 16 U.S.C. 4722).

Proposed Updates to the 2002 Management Plan for the European Green Crab

The 2023 EGC plan proposes to update the 2002 plan by providing a more focused set of approaches for future management, based on significant changes in the distribution of EGC, new technologies available for identifying sources and mechanisms of spread, better information regarding the tradeoffs for different management efforts, and new methods for data management and sharing. The 2023 EGC plan also describes current strategies for coordinating the activities of scientists, resource agencies, Tribal and First Nation organizations, and other entities. The 2002 EGC plan provided significant information about the geographic distribution, mechanisms for spread, biology, ecology, and impacts. The 2023 EGC plan adds new distribution information and summarizes recent research on population genetics, physiology, and range limits. It also provides detailed trapping protocols, recommendations for coordinating ongoing management efforts, and a summary of the legal framework and relevant statutes for EGC across the United States. The 2023 EGC plan includes 11 goals, 23 objectives, and 12 specific strategies, as well as prioritized actions and evaluation criteria.

The purpose of the 2023 EGC plan is to provide guidance for efforts to prevent future introductions, to rapidly detect and respond to new invasions of EGC before they become established and create ecological and economic damage, and to manage current populations that pose an undue threat to resources of importance for ecosystems and local cultures. This plan also serves as a baseline for the development and implementation of, as well as the integration with, local and regional plans, such as the Salish Sea Transboundary Action Plan for Invasive European Green Crab and the Early Detection and Rapid Response Plan for Invasive European Green Crab (Carcinus maenas) in Alaska 2023-2028 (previously known as the Alaska Action Plan for Invasive European Green Crab).

Public Availability of Comments

Before including your address, phone number, email address, or other personal identifying information in your comment, you should be aware that your entire comment, including your personal identifying information, may be made publicly available at any time. While you can ask us in your comment to withhold your personal identifying information from public view, we cannot guarantee that we will be able to do so.

Authority

This document is published under the authority of the Nonindigenous Aquatic Nuisance Prevention and Control Act of 1990 (NANPCA; Pub. L. 101-646, 104 Stat. 4761, 16 U.S.C. 4701-4741), as reauthorized with the passage of the National Invasive Species Act of 1996 (NISA; Pub. L. 104-332, 110 Stat. 4073).

David A. Miko,
Co-chair, Aquatic Nuisance Species Task Force.

[FR Doc. 2023-28361 Filed 12-22-23; 8:45 am]

BILLING CODE 4333-15-P